DEPARTMENT OF COMMERCE

National Oceanic and Atmospheric Administration

[Docket No. 051121306-6220-02; I.D. 082306D]

Announcement of Funding Opportunity for the Coastal and Estuarine Land Conservation Program

AGENCY: Office of Ocean and Coastal Resource Management (OCRM), the National Ocean Service (NOS), National Oceanic and Atmospheric Administration (NOAA), Commerce.

ACTION: Announcement of Funding Opportunity for financial assistance for project grants.

SUMMARY: NOS/OCRM is soliciting coastal and estuarine land conservation acquisition projects from eligible coastal states. The Coastal and Estuarine Land Conservation Program (CELCP) was established “for the purpose of protecting important coastal and estuarine areas that have significant conservation, recreation, ecological, historical, or aesthetic values, or that are threatened by conversion from their natural or recreational state to other uses.” This announcement solicits proposals for land acquisition projects, up to 3 years in duration, with the purpose of protecting important coastal and estuarine areas. Project proposals should reflect priorities identified in an approved state CELC plan or, if a state's plan has not been completed, by the state's approved coastal management program. Eligible coastal states may submit up to three project proposals with a requested funding level not to exceed $3,000,000 per project.

DATES: Proposals must be received by the NOS/OCRM no later than 11:59 p.m. EST, October 27, 2006. The closing deadline for applying through grants.gov is the same as for the paper submission noted in this announcement. Applicants are strongly recommended to allow sufficient time for delivery of materials, electronically or by mail, by the deadline.

ADDRESSES: The full funding opportunity announcement and application materials are available via the grants.gov web site: http://www.grants.gov (opportunity # NOS-OCRM-2008-2000828); via the CELCP website at http://www.coastalmanagement.noaa.gov/land/celcp_fundingop.html; or by contacting the program officials identified below. Applicants must comply with all requirements contained in the full funding opportunity announcement.

Applications may be submitted electronically through grants.gov at the internet site: http://www.grants.gov or by mail to the address listed here. If submitting electronically, NOAA strongly recommends that you do not wait until the application deadline date to begin the application process through grants.gov. If submitting paper applications by mail, a signed original and 4 copies may be submitted to Attn: Elaine Vaudreuil, NOAA, Ocean and Coastal Resource Management, National Policy and Evaluation Division (N/ORM7), 1305 East-West Highway, SSMC4, 10th Floor Station 10657, Silver Spring, MD 20910.

FOR FURTHER INFORMATION CONTACT: CELCP Program Managers: Elaine Vaudreuil, OCRM, 301-713-3155 ext 103; via Internet: Elaine.Vaudreuil@noaa.gov or Elisabeth Morgan, OCRM, 301-713-3155 ext 166; via Internet at Elisabeth.Morgan@noaa.gov.

SUPPLEMENTARY INFORMATION:

Summary Description

The Coastal and Estuarine Land Conservation Program (CELCP) was established “for the purpose of protecting important coastal and estuarine areas that have significant conservation, recreation, ecological, historical, or aesthetic values, or that are threatened by conversion from their natural or recreational state to other uses.” This announcement solicits proposals for land acquisition projects up to 3 years in duration with the purpose of protecting important coastal and estuarine areas.

Project proposals should be based upon a state's coastal and estuarine land acquisition priorities as outlined in approved state CELC plans or as part of an approved state coastal management program. The state's designated lead agency for implementing the CELCP may solicit, and include in their application, project proposals from additional state agencies, or local governments as defined at 15 CFR 24.3, or entities eligible for assistance under Section 306A(e) of the CZMA (16 U.S.C. 1455a(e)), provided that each has the authority to acquire and manage land for conservation purposes. For this solicitation, the requirement that states must have an approved CELC plan in order to participate will be waived. Coastal states may select and submit up to three projects, with a maximum request of $3,000,000 in Federal funding for each project.

Project proposals should identify and discuss the project's primary focus and in addition describe all other relevant conservation, recreation, ecological, historical, and aesthetic values, and discuss threats of conversion of the project from its natural or recreational state to other uses. The proposals should also detail how the project will be completed in a timely manner, existing and proposed uses of the property, and how the project site will be managed in the future for long-term qualifications.

The CELCP Guidelines published in the Federal Register on June 17, 2003, establish the eligibility, procedural and programmatic requirements for participation in the CELCP, including the criteria for financial assistance awards under the program. The guidelines outline the criteria and process for eligible coastal states to develop a state coastal and estuarine land conservation plan, nominate land conservation projects to a national competitive process, and for NOAA to select projects at the national level for funding. All applications submitted pursuant to this notice must be consistent with the requirements and guidelines implementing the CELCP published in the Federal Register (68 FR 35860-35869), on June 17, 2003, except that for this solicitation NOS waives the requirement for states to have an approved CELC plan. The Coastal and Estuarine Land Program Final Guidelines, June 2003 can be found at http://www.coastalmanagement.noaa.gov/land/media/celcpfinal02guidelines.pdf.

Funding Availability

Funding is dependent upon FY 2008 appropriations. Appropriations for the CELCP have ranged from $37-$50 million in fiscal years 2003-2006. It is anticipated that approximately 20-60 projects will be included on a competitively-ranked list of projects that are ready and eligible for funding in FY 2008. Award amounts will be determined by the proposals and dependent upon the amounts appropriated in FY 2008.

Statutory Authority: 16 U.S.C. 1456d.

CFDA: 11.419, Coastal and Estuarine Land Conservation Program.

Eligibility

Coastal states with Coastal Zone Management Programs or National Estuarine Research Reserves approved under the Coastal Zone Management Act of 1972 are eligible to participate. Each state's CELCP lead agency will be responsible for: soliciting projects that are consistent with priorities outlined in the state's approved CELC plan or if a CELC plan has not yet been approved, a state's coastal management program. A list of state lead agency contacts for the CELCP can be found at: http://www.coastalmanagement.noaa.gov/land/media/celcpstateleadcontacts.pdf. The state's lead agency may solicit, and include in their application, project proposals from additional state agencies, or local governments as defined at 15 CFR 24.3, or entities eligible for assistance under section 306A(e) of the CZMA (16 U.S.C. 1455a(e)), provided that each has the authority to acquire and manage land for conservation purposes. Each state may submit up to three project proposals. The state will be responsible for ensuring that allocated funds are used for the purposes of and in a manner consistent with this program. Interested parties should contact the applicable state's CELCP lead contact for additional details about the state's project solicitation requirements.

Cost Sharing Requirements

All funds under this program are to be matched with non-federal funds at a ratio of 1:1, except for the exemption provided to insular areas for projects under $200,000 (see section 2.7.a. of the CELCP guidelines).

Intergovernmental Review

Applications under this program are subject to Executive Order 12372, “Intergovernmental Review of Federal Programs.”

Proposal Review and Selection Process for Projects

NOAA published its agency-wide solicitation entitled “Omnibus Notice Announcing the Availability of Grant Funds for Fiscal Year 2007” for projects for fiscal year 2007 in the Federal Register on June 12, 2006 (71 FR 33901). The evaluation and selection criteria and procedures for projects contained in that omnibus notice are applicable to this notice. Copies of this notice are available on the internet at http://www.ago.noaa.gov/grants/fed-reg-notices/frn2006-06-12.pdf. Further details on evaluation and selection criteria and procedures applicable to this notice can be found in the full funding opportunity announcement available through www.grants.gov and on CELCP website at: www.coastalmanagement.noaa.gov/land/celcp_fundingop.html.

National Environmental Policy Act (NEPA)

NOAA must analyze the potential environmental impacts, as required by the National Environmental Policy Act (NEPA), for applicant projects or proposals that are seeking NOAA federal funding opportunities. Detailed information on NOAA compliance with NEPA can be found at the following NOAA NEPA website: http://www.nepa.noaa.gov/, including our NOAA Administrative Order 216-6 for NEPA, http://www.nepa.noaa.gov/NAO216--6--TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Pre-Award Notification Requirements for Grants and Cooperative Agreements

The Department of Commerce Pre-Award Notification Requirements for Grants and Cooperative Agreements contained in the Federal Register notice of December 30, 2004 (69 FR 78389) are applicable to this solicitation.

Limitation of Liability

Funding for the program listed in this notice is contingent upon the availability of Fiscal Year 2008 appropriations. In no event will NOAA be responsible for proposal preparation costs if this program fails to receive funding or is cancelled because of other agency priorities. Publication of this announcement does not oblige NOAA to award any specific project or to obligate any available funds.

Paperwork Reduction Act

Applications involve collection-of-information requirements subject to the Paperwork Reduction Act. Notwithstanding any other provision of law, no person is required to respond to, nor shall any person be subject to a penalty for failure to comply with a collection of information subject to the requirement of the Paperwork Reduction Act, unless that collection displays a currently valid OMB control number.

The following requirements have been approved by OMB under control number 0648-0459: a Project Proposal and Project Application Checklist (up to five copies per project), including project budget and justification or proposed costs, site maps, and supporting information such as appraisal, title opinion, documentation of compliance with Federal laws, regulations, policies etc.; and documentation of landowner's willingness to sell. The use of Standard Forms 424, 424A, 424B, and SF-LLL have been approved by OMB under the respective control numbers 0348-0043, 0348-0044, 0348-0040, and 0348-0046.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and opportunity for public comment are not required by the Administrative Procedure Act or any other law for rules concerning public property, loans, grants, benefits, and contracts (5 U.S.C. 553(a)(2)). Because notice and opportunity for comments are not required pursuant to 5 U.S.C. 553 or any other law, the analytical requirements of the Regulatory Flexibility Act (5 U.S.C. 601 et seq.) are inapplicable. Therefore, a regulatory flexibility analysis has not been prepared.

Dated: August 25, 2006.
Elizabeth R. Scheffler,
Associate Assistant Administrator for Management and CFO/CAO, NOS, National Oceanic and Atmospheric Administration.

[FR Doc. 06-7395 Filed 8-31-06; 8:45 am]

BILLING CODE 3510-08-S